DEPARTMENT OF COMMERCE

National Oceanic and Atmospheric Administration

[RTID 0648-XE280]

Pacific Fishery Management Council; Public Meeting

AGENCY: National Marine Fisheries Service (NMFS), National Oceanic and Atmospheric Administration (NOAA), Commerce.

ACTION: Notice of a public online meeting.

SUMMARY: The Groundfish Subcommittee of the Pacific Fishery Management Council's (Pacific Council) Scientific and Statistical Committee (SSC) will convene an online meeting to review the suitability of fish age estimates developed using Fourier Transformed Near-Infrared Spectroscopy (FT-NIRS) for inclusion in groundfish stock assessments. The methodology review meeting is open to the public.

DATES: The groundfish methodology review online meeting will be held Tuesday, October 1, 2024 and Wednesday October 2, 2024, daily from 8 a.m. until noon (Pacific daylight time) or until business for the day has been completed.

ADDRESSES: The groundfish methodology review will be conducted as an online meeting. Specific meeting information, including the agenda and directions on how to join the meeting and system requirements, will be provided in the workshop announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The purpose of the groundfish methodology review meeting is aimed at evaluating FT-NIRS to provide a reliable alternative to traditional ageing. Proponents plan to explore and document the variability in estimated relationships between traditional age reads and spectral data across major categorical dimensions. In addition, the review may evaluate the effect that replacing large blocks of traditional ages in assessments with FT-NIRS ages has on important assessment metrics. Evaluation of the benefits of including additional variables and the costs/implications for use of the age data in estimating other relationships, such as growth, will be explored, as time permits. This review is planned in preparation for the 2025 groundfish stock assessment cycle. The results of this review are not considered final until reviewed by the full SSC at a future Council meeting.

No management actions will be decided by the meeting participants. The participants' role will be development of recommendations and reports for consideration by the SSC and the Pacific Council at a future Council meeting.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 9, 2024.
Rey Israel Marquez,
Acting Deputy Director, Office of Sustainable Fisheries, National Marine Fisheries Service.

[FR Doc. 2024-20708 Filed 9-11-24; 8:45 am]

BILLING CODE 3510-22-P